DEPARTMENT OF COMMERCE

International Trade Administration

A-560-822, A-583-843, A-552-806

Antidumping Duty Orders: Polyethylene Retail Carrier Bags from Indonesia, Taiwan, and the Socialist Republic of Vietnam

AGENCY: Import Administration, International Trade Administration, Department of Commerce.

SUMMARY: Based on affirmative final determinations by the Department of Commerce (the Department) and the International Trade Commission (ITC), the Department is issuing antidumping duty orders on polyethylene retail carrier bags (PRCBs) from Indonesia, Taiwan, and the Socialist Republic of Vietnam (Vietnam). On April 26, 2010, the ITC notified the Department of its affirmative determination of the threat of material injury to a U.S. industry. Pursuant to section 736(a) of the Tariff Act of 1930, as amended (the Act), the Department of Commerce is issuing the antidumping duty orders on PRCBs from Indonesia, Taiwan, and Vietnam.

EFFECTIVE DATE: May 4, 2010

FOR FURTHER INFORMATION CONTACT: Yang Jin Chun (Indonesia) at (202) 482-5760 and Dmitry Vladimirov (Taiwan) at (202) 482-0665, AD/CVD Operations, Office 5, and Shawn Higgins (Vietnam) at (202) 482-0679, AD/CVD Operations, Office 4, Import Administration, International Trade Administration, U.S. Department of Commerce, 14th Street and Constitution Avenue, NW, Washington, DC 20230.

SUPPLEMENTARY INFORMATION:

Background

On March 26, 2010, the Department published its affirmative final determination of sales at less than fair value in the antidumping duty investigation of PRCBs from Taiwan. See Polyethylene Retail Carrier Bags from Taiwan: Final Determination of Sales at Less Than Fair Value, 75 FR 14569 (March 26, 2010). On April 1, 2010, the Department published its affirmative final determinations of sales at less than fair value in the antidumping duty investigations of PRCBs from Indonesia and Vietnam. See Polyethylene Retail Carrier Bags From Indonesia: Final Determination of Sales at Less Than Fair Value, 75 FR 16431 (April 1, 2010), and Polyethylene Retail Carrier Bags From the Socialist Republic of Vietnam: Final Determination of Sales at Less Than Fair Value, 75 FR 16434 (April 1, 2010).

On April 26, 2010, the ITC notified the Department of its final determination, pursuant to section 735(d) of the Act, that an industry in the United States is threatened with material injury by reason of less-than-fair-value imports of PRCBs from Indonesia, Taiwan, and Vietnam. See section 735(b)(1)(A)(i) of the Act and Polyethylene Retail Carrier Bags from Indonesia, Taiwan, and Vietnam, Investigation Nos. 701-TA-462 and 731-TA-1156-1158 (Final), USITC Publication 4144 (April 2010).

Scope of the Orders

The merchandise subject to these antidumping duty orders are PRCBs, which also may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches (15.24 cm) but not longer than 40 inches (101.6 cm).

PRCBs are typically provided without any consumer packaging and free of charge by retail establishments, e.g., grocery, drug, convenience, department, specialty retail, discount stores, and restaurants to their customers to package and carry their purchased products. The scope of these antidumping duty orders exclude (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of merchandise included within the scope of these antidumping duty orders are currently classifiable under statistical category 3923.21.0085 of the Harmonized Tariff Schedule of the United States (HTSUS). This subheading may also cover products that are outside the scope of these antidumping duty orders. Although the HTSUS subheading is provided for convenience and customs purposes, the written description of the scope of these antidumping duty orders is dispositive.

Antidumping Duty Orders

On April 26, 2010, in accordance with section 735(d) of the Act, the ITC notified the Department of its final determination that an industry in the United States is threatened with material injury within the meaning of section 735(b)(1)(A)(ii) of the Act by reason of less-than-fair-value imports of PRCBs from Indonesia, Taiwan, and Vietnam.

In accordance with section 736(a)(1) of the Act, the Department will direct U.S. Customs and Border Protection (CBP) to assess, upon further instruction by the Department, antidumping duties equal to the amount by which the normal value of the merchandise exceeds U.S. price of the merchandise for all relevant entries of PRCBs from Indonesia, Taiwan, and Vietnam.

Pursuant to section 736(b)(2) of the Act, duties shall be assessed on subject merchandise entered, or withdrawn from warehouse, for consumption on or after the date of publication of the ITC's notice of final determination if that determination is based on the threat of material injury, other than threat of material injury described in section 736(b)(1) of the Act. Section 736(b)(1) states that, “{i}f the Commission, in its final determination under section 735(b), finds material injury or threat of material injury which, but for the suspension of liquidation under section 733(d)(2) would have led to a finding of material injury, then entries of the subject merchandise, the liquidation of which has been suspended under section 733(d)(2), shall be subject to the imposition of antidumping duties under section 731.” In addition, section 736(b)(2) of the Act requires CBP to release any bond or other security and refund any cash deposit made of estimated antidumping duties posted since the Department's preliminary antidumping duty determinations.

Because the ITC's final determination is based on the threat of material injury and is not accompanied by a finding that injury would have resulted but for the imposition of suspension of liquidation of entries since the Department's preliminary determinations, section 736(b)(2) of the Act is applicable. According to section 736(b)(2) of the Act, where the ITC finds threat of material injury, duties shall only be assessed on subject merchandise entered, or withdrawn from warehouse, for consumption on or after the date of publication of the ITC's notice of final determination. In addition, section 736(b)(2) of the Act requires CBP to refund any cash deposits or bonds of estimated antidumping duties posted since the preliminary antidumping determinations and prior to the ITC's notice of final determination.

Therefore, on or after the date of publication of the ITC's notice of final determination in the Federal Register, CBP will require, pursuant to section 736(a)(3) of the Act, at the same time as importers would normally deposit estimated duties on this merchandise, a cash deposit equal to the estimated dumping margins listed below. The all-others rates for Indonesia and Taiwan apply to all Indonesian and Taiwanese producers or exporters not specifically listed. The Vietnam-wide rate applies to all Vietnamese exporters of subject merchandise not specifically listed.

The antidumping duty margins and cash-deposit rates are as follows:

Indonesia
Producer or Exporter | Antidumping Duty Percent Margin
P.T. Sido Bangun Indonesia | 85.17
P.T. Super Exim Sari Ltd. and P.T. Super Makmur | 69.64
All Others | 69.64

Taiwan
Producer or Exporter | Antidumping Duty Percent Margin
Ipsido Corporation | 95.81
TCI Plastic Co., Ltd. | 36.54
All Others | 36.54

Socialist Republic of Vietnam¹
Manufacturer | Exporter | Antidumping-Duty Percent Margin
Alpha Plastics (Vietnam) Co., Ltd.‸ | Alpha Plastics (Vietnam) Co., Ltd.‸ | 52.30
Alta Company° | Alta Company° | 52.30
Ampac Packaging Vietnam Ltd.‸ | Ampac Packaging Vietnam Ltd. ‸ | 52.30
BITAHACO* | BITAHACO* | 52.30
Chin Sheng Co., Ltd.* | Chin Sheng Co., Ltd.* | 52.30
Chung Va (Vietnam) Plastic Packaging Co., Ltd.‸ | Chung Va Century Macao Commercial Offshore Limited‸ | 52.30
Hanoi 27-7 Packaging Company Limited, aka Hanoi 27-7 Packaging Company Limited, aka HAPACK Co. Ltd, aka HAPACK° | Hanoi 27-7 Packing Company Limited, aka Hanoi 27-7 Packing Company Limited,aka HAPACK Co. Ltd, aka HAPACK° | 52.30
Hoi Hung Company Limited‸ | Kong Wai Polybag Printing Company‸ | 52.30
Kinsplastic Vietnam Ltd. Co.‸ | Kinsplastic Vietnam Ltd. Co.‸ | 52.30
Loc Cuong Trading Producing Company Limited, aka Loc Cuong Trading Producing Company, aka Loc Cuong Trading Producing Co. Ltd.* | Loc Cuong Trading Producing Company Limited, aka Loc Cuong Trading Producing Company, aka Loc Cuong Trading Producing Co. Ltd.* | 52.30
Ontrue Plastics Co., Ltd. (Vietnam)‸ | Ontrue Plastics Co., Ltd. (Vietnam)‸ | 52.30
Richway Plastics Vietnam Co., Ltd.‸ | Richway Plastics Vietnam Co., Ltd.‸ | 52.30
RKW Lotus Limited Co., Ltd., aka RKW Lotus Limited, aka RKW Lotus Ltd.‸ | RKW Lotus Limited Co., Ltd., aka RKW Lotus Limited, aka RKW Lotus Ltd.‸ | 52.30
VINAPACKINK Co., Ltd.* | VINAPACKINK Co., Ltd.* | 52.30
VN K's International Polybags Joint Stock Company * | K's International Polybags MFG Ltd * | 52.30
VN Plastic Industries Co. Ltd.‸ | VN Plastic Industries Co. Ltd.‸ | 52.30
Vietnam-Wide Entity² |  | 76.11
¹ The symbol “‸”designates companies as foreign-owned separate-rate recipients, “*” designates companies as Vietnamese separate-rate recipients, and “°” designates companies as state-owned separate-rate recipients.
² Advance Polybag Co., Ltd., Fotai Vietnam Enterprise Corp., Green Care Packaging Industrial (Vietnam) Co., An Phat Plastic and Packing Joint Stock Co., Genius Development Ltd., J.K.C. Vina Co., Ltd., are all part of the Vietnam-wide entity.

In accordance with section 736(b)(2) of the Act and 19 CFR 351.211(b), the Department will instruct CBP to terminate the suspension of liquidation for entries of PRCBs from Indonesia, Taiwan, and Vietnam entered, or withdrawn from warehouse, for consumption and refund any cash deposits made and release any bonds posted for estimated antidumping duties between the dates of publication of the Department's preliminary determinations on October 27, 2009,³ for Taiwan and November 3, 2009,⁴ for Indonesia and Vietnam and the day before publication of the ITC's final determination in the Federal Register.

³ See Polyethylene Retail Carrier Bags From Taiwan: Preliminary Determination of Sales at Less Than Fair Value and Postponement of Final Determination, 74 FR 55183 (October 27, 2009).

⁴ See Polyethylene Retail Carrier Bags from Indonesia: Preliminary Determination of Sales at Less Than Fair Value and Postponement of Final Determination, 74 FR 56807 (November 3, 2009), and Polyethylene Retail Carrier Bags From the Socialist Republic of Vietnam: Preliminary Determination of Sales at Less Than Fair Value and Postponement of Final Determination, 74 FR 56813 (November 3, 2009).

This notice constitutes the antidumping duty orders with respect to PRCBs from Indonesia, Taiwan, and Vietnam pursuant to section 736(a) of the Act. Interested parties may contact the Central Records Unit of the main Department of Commerce building, Room 1117, for copies of an updated list of antidumping duty orders currently in effect.

These orders are published in accordance with section 736(a) of the Act and 19 CFR 351.211(b).

Dated: April 27, 2010.
Ronald K. Lorentzen,
Deputy Assistant Secretary for Import Administration.

[FR Doc. 2010-10254 Filed 5-3-10; 8:45 am]

BILLING CODE 3510-DS-S